DEPARTMENT OF STATE

[Public Notice: 10158]

30-Day Notice of Proposed Information Collection: Individual, Corporate or Foundation, and Government Donor Letter Applications

AGENCY: Department of State.

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to November 16, 2017.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Chanel Wallace, who may be reached on (202) 647-7730 or at WallaceCR2@state.gov.

SUPPLEMENTARY INFORMATION:

• Title of Information Collection: Individual, Corporate or Foundation and Government Donor Letter Applications.

• OMB Control Number: 1405-0218.

• Type of Request: Extension of a Currently Approved Collection.

• Originating Office: Office of Emergencies in the Diplomatic and Consular Service (M/EDCS).

• Form Number: Individual (DS-4273), Donor Form—Corporate or Foundation (DS-4272), and Donor Form—Government (DS-4271).

• Respondents: Individuals, Corporations, or Foundations that make donations to the Department.

• Estimated Number of Respondents: 4,333.

• Estimated Number of Responses: 4,333.

• Average Time per Response: 5 minutes.

• Total Estimated Burden Time: 361 hours.

• Frequency: On occasion.

• Obligation To Respond: Mandatory.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection:

The Office of Emergencies in the Diplomatic and Consular Service (EDCS) manages the solicitation and acceptance of gifts to the U.S. Department of State. The information requested via donor letters is a necessary first step to accepting donations. The information is sought pursuant to 22 U.S.C. 2697, 5 U.S.C. 7324 and 22 CFR, Part 3) and will be used by EDCS's Gift Fund Coordinator to demonstrate the donor's intention to donate either an in-kind or monetary gift to the Department. This information is mandatory and must be completed before the gift is received by the Department.

Methodology:

The information collection forms are available upon request. Donors can complete hard copies of the form, and mail to EDCS.

Frances Gidez,
Gift Funds Coordinator, M/EDCS, Department of State.

[FR Doc. 2017-22418 Filed 10-16-17; 8:45 am]

BILLING CODE 4710-35-P